DEPARTMENT OF AGRICULTURE

Rural Housing Service

Rural Business-Cooperative Service

Rural Utilities Service

Farm Service Agency

7 CFR Part 1951

Intermediary Relending Program and Rural Development Loan Fund Program; Field Visits

AGENCY: Rural Business-Cooperative Service, USDA.

ACTION: Final rule.

SUMMARY: The Rural Business-Cooperative Service (RBS) hereby amends its regulations pertaining to loan servicing of the Intermediary Relending Program (IRP) and the Rural Development Loan Fund Program (RDLF). This rule removes a section, which required field visits, under 7 CFR part 1951, subpart R. Its removal does not impact the public.

EFFECTIVE DATE: April 18, 2002.

For further information contact: David W. Lewis, Rural Business-Cooperative Service, USDA, Room 6858-S, Mail Stop 3225, South Agriculture Building, 1400 Independence Avenue, SW., Washington, DC 20250-3225, Telephone (202) 690-0797.

SUPPLEMENTARY INFORMATION:

Classification

This action is not subject to the provisions of Executive Order 12866 or published for proposed rulemaking; since it involves only internal Agency management, publication for comment is unnecessary.

Environmental Impact Statement

This action has been reviewed in accordance with 7 CFR part 1940, subpart G, “Environmental Program.” The Agency has determined that this action does not constitute a major Federal action significantly affecting the quality of the human environment, and, in accordance with the National Environmental Policy Act of 1969, Public Law 91-190, an Environmental Impact Statement is not required.

Programs Affected

The Catalog of Federal Domestic Assistance program impacted by this action is:

10.767 Intermediary Relending Program.

Intergovernmental Consultation

This program is subject to Executive Order 12372, which requires intergovernmental consultation with state and local officials.

Executive Order 12988

The final rule has been reviewed under Executive Order 12988, “Civil Justice Reform.” In accordance with this rule: (1) All state and local laws and regulations that are in conflict with this rule be preempted, (2) no retroactive effect will be given to this rule, and (3) administrative proceedings of the National Appeals Division (7 CFR part 11) must be exhausted before bringing suit in court challenging action taken under this rule.

Paperwork Reduction Act

There are no reporting and record keeping requirements associated with this final rule.

List of Subjects in 7 CFR Part 1951

Loan programs—agriculture, Rural areas.

Therefore, chapter XVIII, title 7, of the Code of Federal Regulations is amended as follows:

PART 1951—SERVICING AND COLLECTIONS

Subpart R—Rural Development Loan Servicing

1. The authority citation for part 1951 continues to read as follows:

Authority: 5 U.S.C. 301; 42 U.S.C. 1480.

§ 1951.882 [Removed and Reserved]

2. Section 1951.882 is removed and reserved.

Dated: April 5, 2002.
John Rosso,
Administrator, Rural Business-Cooperative Service.

[FR Doc. 02-9255 Filed 4-17-02; 8:45 am]

BILLING CODE 3410-XV-U